DEPARTMENT OF COMMERCE

International Trade Administration

United States Travel and Tourism Advisory Board: Meeting of the United States Travel and Tourism Advisory Board

AGENCY: International Trade Administration, U.S. Department of Commerce.

ACTION: Notice of an open meeting.

SUMMARY: The United States Travel and Tourism Advisory Board (Board) will hold the third meeting of the current term on Tuesday, November 18, 2014. The Board was re-chartered on August 2013, to advise the Secretary of Commerce on matters relating to the travel and tourism industry. At the meeting, members are expected to deliberate and seek to adopt policy recommendations addressing Brand USA, visa policy, domestic travel and tourism, the Department of Transportation 30-year Strategic Plan, and the Survey of International Air Travelers. They are also expected to hear an update on the Board's recommendations addressing entry presented at the July meeting and to discuss issues impacting the travel and tourism industry, including travel promotion, cultural and natural heritage issues, travel facilitation, infrastructure, and public-private partnerships, in addition to other topics. The agenda may change to accommodate Board business. The final agenda will be posted on the Department of Commerce Web site for the Board at http://trade.gov/ttab, at least one week in advance of the meeting.

DATES: Tuesday, November 18, 2014, 9:30 a.m.-12:30 p.m. and open for public comments.

ADDRESSES: U.S. Department of Commerce, 1401 Constitution Avenue NW., Washington, DC 20230. Guests are requested to register one week in advance by sending an email to OACIE@trade.gov.

FOR FURTHER INFORMATION CONTACT: Jennifer Pilat, the United States Travel and Tourism Advisory Board, Room 4043, 1401 Constitution Avenue NW., Washington, DC 20230, telephone: 202-482-4501, email: jennifer.pilat@trade.gov.

SUPPLEMENTARY INFORMATION: Background: The Board advises the Secretary of Commerce on matters relating to the U.S. travel and tourism industry.

Public Participation: The meeting will be open to the public and will be physically accessible to people with disabilities. All guests are required to register in advance. The meeting room will be provided upon registration. Seating is limited and will be on a first come, first served basis. Requests for sign language interpretation, other auxiliary aids, or pre-registration, should be submitted no later than 5 p.m. EDT on November 10, 2014, to Jennifer Pilat, the U.S. Travel and Tourism Advisory Board, Room 4043, 1401 Constitution Avenue NW., Washington, DC 20230, telephone 202-482-4501, OACIE@trade.gov. Last minute requests will be accepted, but may be impossible to fill. There will be 15 minutes of time allotted for oral comments from members of the public attending the meeting. Any member of the public may submit pertinent written comments concerning the Board's affairs at any time before or after the meeting. Comments may be submitted to Jennifer Pilat at the contact information indicated above. To be considered during the meeting, comments must be received no later than 5:00 p.m. EDT on November 10, 2014, to ensure transmission to the Board prior to the meeting. Comments received after that date will be distributed to the members but may not be considered at the meeting. Copies of Board meeting minutes will be available within 90 days of the meeting.

Dated: October 29, 2014.
Jennifer Pilat,
Executive Secretary, United States Travel and Tourism Advisory Board.

[FR Doc. 2014-26104 Filed 10-31-14; 8:45 am]

BILLING CODE 3510-DR-P